COMMITTEE FOR PURCHASE FROM PEOPLE WHO ARE BLIND OR SEVERELY DISABLED

Procurement List Proposed Addition; Correction

In the document appearing on page 40910, FR Doc. 02-15069, in the issue of June 14, 2002, in the first column the Committee published a notice of proposed addition to the Procurement List of, among other things, Laundry Service, Fort Carson, Colorado. This notice is to correct the Nonprofit Agency associated with this proposal from Goodwill Industries of Colorado Springs to Goodwill Industrial Services Corporation, Colorado Springs, Colorado.

Sheryl D. Kennerly,
Director, Information Management.

[FR Doc. 02-15732 Filed 6-20-02; 8:45 am]

BILLING CODE 6353-01-P